DEPARTMENT OF ENERGY

Agency Information Collection Extension

AGENCY: U.S. Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before April 15, 2024. If you anticipate that you will be submitting comments but find it difficult to do so within the period of time allowed by this notice, please advise the DOE Desk Officer at OMB of your intention to make a submission as soon as possible. The Desk Officer may be telephoned at 202-881-8585.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Mr. Chris Early, U.S. Department of Energy, Building Technologies Program, Mail Stop EE-5B, Forrestal Building, 1000 Independence Avenue SW, Washington, DC 20585-0121, or by email at Chris.Early@ee.doe.gov or by calling 240-354-1304.

SUPPLEMENTARY INFORMATION: This information collection request contains: (1) OMB No.: 1910-5184; (2) Information Collection Request Titled: Programs for Improving Energy Efficiency in Buildings; (3) Type of Review: extension; (4) Purpose: The proposed collection will enable DOE to understand the universe of organizations participating in building load management programs, including the following four voluntary programs: the Home Performance with ENERGY STAR Program, the Home Energy Score Program, the Better Buildings Residential Network, and the Zero Energy Ready Home Program. DOE encourages and assists the people and organizations that voluntarily participate in energy efficiency programs to build or renovate buildings for the purposes of improved efficiency, reliability, and affordability. The partners who voluntarily participate in the programs include: home builders, building trades and building-related associations, home design professionals, home energy raters and auditors, home inspectors, building consultants, manufacturers of building products, retailers, utility companies, financial institutions, non-profit organizations, educational institutions, energy program administrators and implementers, Home Performance with ENERGY STAR sponsors, state or local government energy offices or agencies, and other organizations that believe peer sharing will help them improve their effectiveness in encouraging effective energy upgrades. DOE proposes to continue to collect information such as names of program participants and names of organizations and addresses; estimates of how many homes they can get to participate in the programs; information about building stock (no building owner information is collected), and load management strategies. The collected information helps DOE understand the participating partners' activities and progress toward achieving scheduled milestones enabling DOE to make decisions about the best way to respond to partners' needs to improve their operations and actions to lower energy consumption and improve affordability. DOE published a notice and request for comments related to this current request for OMB clearance to collect information on April 20, 2023 (88 FR 24395) and received no comments; (5) Annual Estimated Number of Respondents: 969; (6) Annual Estimated Number of Total Responses: 45,170; (7) Annual Estimated Number of Burden Hours: 19,397; (8) Annual Estimated Reporting and Recordkeeping Cost Burden: zero.

Statutory Authority: The U.S. Code, title 42, chapter 149, subchapter IX, part A, section 16191—Energy Efficiency.

Signing Authority

This document of the Department of Energy was signed on March 8, 2024, by Amanda Mahoney, Director, Building Technologies Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 12, 2024.
Treena V. Garrett,
Federal Register Liaison Officer, U.S. Department of Energy.

[FR Doc. 2024-05545 Filed 3-14-24; 8:45 am]

BILLING CODE 6450-01-P